DEPARTMENT OF DEFENSE

Department of the Army

Board of Visitors, United States Military Academy (USMA)

AGENCY: Department of the Army, DoD.

ACTION: Meeting notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: United States Military Academy Board of Visitors.

2. Date: Wednesday, February 11, 2009.

3. Time: 1 p.m.-4 p.m. Members of the public wishing to attend the meeting will need to show photo identification in order to gain access to the meeting location. All participants are subject to security screening.

4. Location: Room 385, Senate Russell Office Building, Washington DC 20510.

5. Purpose of the Meeting: This is the 2009 Organizational Meeting of the USMA Board of Visitors (BoV). Members of the Board will be provided updates on Academy issues.

6. Agenda: The Academy leadership will provide the Board updates on the following: Accreditation, United States Military Academy Preparatory School (USMAPS) move to West Point, Sexual Assault/Sexual Harassment, Suicide Awareness and Prevention, Resource Update, Class of 2009 Update, and Incoming Class of 2013. The Board will discuss proposed meeting dates for the 2009 Spring and Summer meetings, and will hold elections for the 2009 Chairperson and Vice-Chairperson.

7. Public's Accessibility to the Meeting: Pursuant to 5 U.S.C. 552b and 41 CFR 102-3.140 through 102-3.165, and the availability of space, this meeting is open to the public. Seating is on a first-come basis.

8. Committee's Designated Federal Officer or Point of Contact: Lieutenant Colonel (LTC) Paul S. Sarat, Jr., (845) 938-4200, paul.sarat@us.army.mil.

SUPPLEMENTARY INFORMATION: Any member of the public is permitted to file a written statement with the USMA Board of Visitors. Written statements should be sent to the Designated Federal Officer (DFO) at: United States Military Academy, Office of the Secretary of the General Staff (MASG), 646 Swift Road, West Point, NY 10996-1905 or faxed to the Designated Federal Officer (DFO) at (845) 938-3214. Written statements must be received no later than five working days prior to the next meeting in order to provide time for member consideration. By rule, no member of the public attending open meetings will be allowed to present questions from the floor or speak to any issue under consideration by the Board.

FOR FURTHER INFORMATION CONTACT: LTC Paul S. Sarat, Jr., (845) 938-4200 (fax 845-938-3214) or via e-mail: paul.sarat@us.army.mil.

Brenda S. Bowen,
Army Federal Register Liaison Officer.

[FR Doc. E9-1631 Filed 1-23-09; 8:45 am]

BILLING CODE 3710-08-P